FARM CREDIT SYSTEM INSURANCE CORPORATION

Policy Statement Concerning Assistance to Troubled Farm Credit System Institutions

AGENCY: Farm Credit System Insurance Corporation.

ACTION: Policy statement; extension of comment period.

SUMMARY: The Farm Credit System Insurance Corporation (Corporation or FCSIC) published for comment a draft Policy Statement Concerning Assistance to Troubled Farm Credit System (System) Institutions to replace the Corporation's present Policy Statement Concerning Stand-Alone Assistance. The draft revised policy statement provides additional transparency concerning the Corporation's authority to provide assistance, discusses how the least-cost test might be performed, enhances the criteria of what is to be included in assistance proposals, and adds a new section discussing assistance agreements. We are extending the comment period so that all interested parties will have additional time to provide comments.

DATES: Written comments must be submitted on or before October 22, 2012.

ADDRESSES: Comments should be mailed or delivered to James M. Morris, General Counsel, Farm Credit System Insurance Corporation, McLean, Virginia 22102. Copies of all comments will be available for examination by interested parties in the offices of the Farm Credit System Insurance Corporation.

FOR FURTHER INFORMATION CONTACT: Wade Wynn, Senior Risk Analyst, and James M. Morris, General Counsel, Farm Credit System Insurance Corporation, 1501 Farm Credit Drive, McLean, Virginia 22102, (703) 883-4380, TDD (703) 883-4390.

SUPPLEMENTARY INFORMATION: On June 21, 2012, the FCSIC published for comment a draft Policy Statement Concerning Assistance to Troubled System Institutions to replace the Corporation's present Policy Statement Concerning Stand-Alone Assistance.¹ The FCSIC received several comment letters, including the Farm Credit Council and two System banks requesting that the Corporation extend the comment period by 90 days. Because of the significance and complexity of the issues and the implications associated with providing assistance to troubled System institutions, the commenters have asked the Corporation to extend the comment period to further evaluate the draft policy statement. In view of the comment letters, the FCSIC has decided to extend the comment period by 90 days. The FCSIC supports public involvement and participation in the development of this policy statement and invites all interested parties to review and provide comments.

¹ See 77 FR 37399.

Dated: July 26, 2012.
Dale L. Aultman,
Secretary to the Board, Farm Credit System Insurance Corporation.

[FR Doc. 2012-18692 Filed 7-31-12; 8:45 am]

BILLING CODE 6710-01-P